DEPARTMENT OF HEALTH AND HUMAN SERVICES

Centers for Disease Control and Prevention

CDC/HRSA Advisory Committee on HIV, Viral Hepatitis and STD Prevention and Treatment (CHACHSPT)

AGENCY: Centers for Disease Control and Prevention (CDC), Department of Health and Human Services (HHS).

ACTION: Notice of meeting.

SUMMARY: In accordance with the Federal Advisory Committee Act, the CDC and the Health Resources and Services Administration (HRSA), announce the following meeting for the CDC/HRSA Advisory Committee on HIV, Viral Hepatitis and STD Prevention and Treatment (CHACHSPT). This meeting is open to the public, limited only by 100 room seating and 100 ports for audio phone lines. Time will be available for public comment. The public is welcome to submit written comments in advance of the meeting. Comments should be submitted in writing by email to the contact person listed below. The deadline for receipts is Monday, May 7, 2018. Persons who desire to make an oral statement, may request it at the time of the public comments period on May 9, 2018 at 4:15 p.m. EDT. This meeting is accessible by web conference: 1-877-603-4228, Participant code: 42598858.

DATES: The meeting will be held on May 9, 2018, 8:30 a.m. to 5:00 p.m., EDT and May 10, 2018, 8:30 a.m. to 12:00 p.m., EDT.

ADDRESSES: CDC Corporate Square, Building 8, Conference Room 1-ABC, 8 Corporate Boulevard, Atlanta, Georgia 30329.

FOR FURTHER INFORMATION CONTACT: Margie Scott-Cseh, Committee Management Specialist, CDC, 1600 Clifton Road NE, Mailstop: E-07, Atlanta, Georgia 30333, telephone (404) 639-8317; zkr7@cdc.gov

SUPPLEMENTARY INFORMATION:

Purpose: This committee is charged with advising the Director, CDC and the Administrator, HRSA, regarding activities related to prevention and control of HIV/AIDS, Viral Hepatitis and other STDs, the support of health care services to persons living with HIV/AIDS, and education of health professionals and the public about HIV/AIDS, Viral Hepatitis and other STDs.

Matters To Be Considered: The agenda will include discussions on (1) HIV, Viral Hepatitis, and Sexually Transmitted Disease consequences of the opioid crisis; (2) Perspectives on, and experiences with, syringe services program (SSP); (3) Continued discussion on HIV transmission risk in the context of Antiretroviral Therapy (ART) use and Viral Suppression (Treatment as Prevention or TasP); (4) Anti-bullying policies in schools; and (5) Updates from Workgroups. Agenda items are subject to change as priorities dictate.

The Director, Management Analysis and Services Office, has been delegated the authority to sign Federal Register notices pertaining to announcements of meetings and other committee management activities, for both the Centers for Disease Control and Prevention and the Agency for Toxic Substances and Disease Registry.

Elaine Baker,
Director, Management Analysis and Services Office, Centers for Disease Control and Prevention.

[FR Doc. 2018-06547 Filed 3-30-18; 8:45 am]

BILLING CODE 4163-19-P